DEPARTMENT OF COMMERCE

National Oceanic and Atmospheric Administration

50 CFR Part 648

[Docket No. 000119014-0137-02; I.D. 083000E]

Fisheries of the Northeastern United States; Atlantic Mackerel, Squid, and Butterfish Fisheries; Closure of Fishery for Loligo Squid

AGENCY: National Marine Fisheries Service (NMFS), National Oceanic and Atmospheric Administration (NOAA), Commerce.

ACTION: Closure.

SUMMARY: NMFS announces that the directed fishery for Loligo squid in the exclusive economic zone (EEZ) will be closed effective September 7, 2000. Vessels issued a Federal permit to harvest Loligo squid may not retain or land more than 2,500 lb (1.13 mt) per trip of Loligo squid for the remainder of the year. This action is necessary to prevent the fishery from exceeding its annual quota. The Mid-Atlantic Fishery Management Council (Council) has recommended that additional quota be allocated for the year 2000, and NMFS is reviewing the recommendation. Should the recommendation be adopted, NMFS will reopen the fishery.

DATES: Effective 0001 hours, September 7, 2000, through 2400 hours, December 31, 2000.

FOR FURTHER INFORMATION CONTACT: Paul H. Jones, Fishery Policy Analyst, 978-281-9273, fax 978-281-9135, e-mail paul.h.jones@noaa.gov.

SUPPLEMENTARY INFORMATION: Regulations governing the Loligo squid fishery are found at 50 CFR part 648. The regulations require annual specifications for initial optimum yield, as well as the amounts for allowable biological catch, domestic annual harvest (DAH), domestic annual processing, joint venture processing, and total allowable levels of foreign fishing for the species managed under the Atlantic Mackerel, Squid, and Butterfish Fishery Management Plan. The procedures for setting the annual initial specifications are described in § 648.21.

The 2000 specification of DAH for Loligo squid was set at 13,000 mt (65 FR 16341, March 28, 2000). This amount is allocated by trimester, based on the percentages summarized in the following table.

Loligo 4-month Period Allocations
4-month Period | Percent | Metric Tons
I (Jan-Apr) | 42 | 5,460
II (May-Aug) | 18 | 2,340
III (Sep-Dec) | 40 | 5,200
Total | 100 | 13,000

Section 648.22 requires the closure of the directed Loligo squid fishery in the EEZ when 90 percent of the trimester’s allocation of DAH for Loligo squid has been harvested in Period I or II, and when 95 percent of the total annual DAH has been harvested in Period III. NMFS is further required to notify, in advance of the closure, the Executive Directors of the Mid-Atlantic, New England, and South Atlantic Fishery Management Councils; mail notification of the closure to all holders of Loligo squid permits at least 72 hours before the effective date of the closure; provide adequate notice of the closure to recreational participants in the fishery; and publish notification of the closure in the Federal Register.

NMFS has determined, based on landings and other available information, that 95 percent of the total annual DAH for Loligo squid will be harvested by September 6, 2000. Therefore, effective 0001 hours, September 7, 2000, the directed fishery for Loligo squid is closed and vessels issued Federal permits for Loligo squid may not retain or land more than 2,500 lb (1.13 mt) of Loligo per trip. The directed fishery will reopen effective 0001 hours, January 1, 2001, which marks the beginning of the Period I quota for the 2001 fishing year. The Council has recommended that additional quota be allocated for the year 2000. NMFS is reviewing this recommendation. Should the recommendation be adopted, NMFS will reopen the fishery by publishing a notification action in the Federal Register to inform the fishing industry and the general public.

Classification

This action is required by 50 CFR part 648 and is exempt from review under Executive Order 12866.

Authority: 16 U.S.C. 1801 et seq.

Dated: August 30, 2000.
Richard W. Surdi,
Acting Director, Office of Sustainable Fisheries, National Marine Fisheries Service.

[FR Doc. 00-22789 Filed 8-31-00; 1:38 pm]

BILLING CODE 3210-22-S